DEPARTMENT OF THE TREASURY

Internal Revenue Service

Open Meeting of the Taxpayer Advocacy Panel (TAP) Multilingual Initiative Issue Committee

ACTION: Notice.

SUMMARY: An open meeting of the Taxpayer Advocacy Panel (TAP) Multilingual Initiative Issue Committee will be conducted (via teleconference).

DATES: The meeting will be held Friday, November 22, 2002.

FOR FURTHER INFORMATION CONTACT: Inez E. De Jesus at 1-888-912-1227, or 954-423-7977.

SUPPLEMENTARY INFORMATION: Notice is hereby given pursuant to section 10(a)(2) of the Federal Advisory Committee Act, 5 U.S.C. App. (1988) that an open meeting of the Taxpayer Advocacy Panel Multilingual Initiative Issue Committee will be held Friday, November 22, 2002, from 1 pm EST to 2 pm EST via a telephone conference call. The public is invited to make oral comments. Individual comments will be limited to 5 minutes. If you would like to have the TAP consider a written statement, please call 1-888-912-1227 or 954-423-7977, or write Inez E. De Jesus, TAP Office, 7771 W. Oakland Park Blvd. Rm. 225, Sunrise, FL 33351, or e-mail cap_4@mindspring.com. Due to limited conference lines, notification of intent to participate in the telephone conference call meeting must be made with Inez E. De Jesus. Ms. De Jesus can be reached at 1-888-912-1227 or 954-423-7977, or e-mail cap_4@mindspring.com.

The agenda will include the following: Various IRS/TAP Multilingual issues and related topics.

Note: Last minute changes to the agenda are possible and could prevent effective advance notice.

Dated: October 23, 2002.
Cathy VanHorn,
Director, Communication and Liaison.

[FR Doc. 02-27641 Filed 10-29-02; 8:45 am]

BILLING CODE 4830-01-P